FEDERAL COMMUNICATIONS COMMISSION

47 CFR Part 73

[DA 01-333; MM Docket No. 98-112, RM-9027, RM-9268, RM-9384]

Radio Broadcasting Services; Anniston and Ashland, AL, and College Park, GA

AGENCY: Federal Communications Commission.

ACTION: Final rule; denial of petition for reconsideration.

SUMMARY: This document denies a Petition for Reconsideration filed by Preston Small directed to the Report and Order in this proceeding which substituted Channel 263C3 for Channel 263C at Anniston, Alabama, allotted Channel 264A to Ashland, Alabama, reallotted Channel 263C3 to College Park, Georgia, and modified the license of Station WHMA to specify operation on Channel 263C3 at College Park. See 65 FR 31498, May 18, 2000.

FOR FURTHER INFORMATION CONTACT: Robert Hayne, Mass Media Bureau, (202) 418-2177.

SUPPLEMENTARY INFORMATION: This is a synopsis of the Commission's Memorandum Opinion and Order in MM Docket No. 98-112, adopted February 7, 2001, and released February 9, 2001. The full text of this decision is available for inspection and copying during normal business hours in the FCC Reference Information Center at Portals ll, CY-A257, 445 12th Street, SW., Washington, DC. The complete text of this decision may also be purchased from the Commission's copy contractor, International Transcription Service, Inc., (202) 857-3805, 1231 M Street, NW., Washington, DC 20036.

Federal Communications Commission.
John A. Karousos,
Chief, Allocations Branch, Policy and Rules Division, Mass Media Bureau.

[FR Doc. 01-5829 Filed 3-13-01; 8:45 am]

BILLING CODE 6712-01-P